DEPARTMENT OF COMMERCE

International Trade Administration

[A-570-880]

Barium Carbonate From the People's Republic of China: Continuation of Antidumping Duty Order

AGENCY: Enforcement and Compliance, International Trade Administration, Department of Commerce.

SUMMARY: As a result of the determinations by the Department of Commerce (the “Department”) and the International Trade Commission (the “ITC”) that revocation of the antidumping duty (“AD”) order on barium carbonate from the People's Republic of China (“PRC”) would likely lead to a continuation or recurrence of dumping and material injury to an industry in the United States, the Department is publishing a notice of continuation of the antidumping duty order.

DATES: Effective Date: February 17, 2015.

FOR FURTHER INFORMATION CONTACT: Irene Gorelik, AD/CVD Operations, Office V, Enforcement and Compliance, International Trade Administration, U.S. Department of Commerce, 14th Street and Constitution Avenue NW., Washington, DC 20230; telephone: (202) 482-6905.

SUPPLEMENTARY INFORMATION:

Background

On August 6, 2003, the Department published the final determination in the AD investigation of barium carbonate from the PRC.¹ On October 1, 2003, the Department issued the AD order on barium carbonate from the PRC.² There have been no administrative reviews since issuance of the Order. There have been no related findings or rulings (e.g., changed circumstances review, scope ruling, duty absorption review) since issuance of the Order. On January 9, 2009, the Department published the final results of the expedited first sunset review of this Order.³ On March 17, 2009, the Department published the continuation of the Order.⁴

¹ See Notice of Final Determination of Sales at Less Than Fair Value: Barium Carbonate From the People's Republic of China, 68 FR 46577 (August 6, 2003) (“Final Determination”).

² See Antidumping Duty Order: Barium Carbonate From the People's Republic of China, 68 FR 56619 (October 1, 2003) (“Order”).

³ See Barium Carbonate From the People's Republic of China: Final Results of the Expedited Sunset Review of the Antidumping Duty Order, 74 FR 882 (January 9, 2009).

⁴ See Barium Carbonate From the People's Republic of China: Continuation of Antidumping Duty Order, 74 FR 11348 (March 17, 2009).

On February 3, 2014, the Department initiated the second five-year (“sunset”) review of the AD order on barium carbonate from the PRC pursuant to section 751(c) of the Tariff Act of 1930, as amended (the “Act”).⁵ As a result of its review, the Department determined that revocation of the antidumping duty order on barium carbonate from the PRC would likely lead to a continuation or recurrence of dumping and, therefore, notified the ITC of the magnitude of the margins likely to prevail should the order be revoked.⁶ On February 6, 2015, the ITC published its determination, pursuant to section 751(c) of the Act, that revocation of the antidumping duty order on barium carbonate from the PRC would likely lead to a continuation or recurrence of material injury to an industry in the United States within a reasonably foreseeable time.⁷

⁵ See Initiation of Five-Year (“Sunset”) Review, 79 FR 6163 (February 3, 2014).

⁶ See Barium Carbonate From the People's Republic of China: Final Results of Expedited Second Sunset Review of the Antidumping Duty Order, 79 FR 32221 (June 4, 2014) and accompanying Issues and Decision Memorandum.

⁷ See Barium Carbonate From China: Determination, 80 FR 6766 (February 6, 2015); see also Barium Carbonate from China (Inv. No. 731-TA-1020 (Second Review), USITC Publication 4518, February 2015).

Scope of the Order

The merchandise covered by this order is barium carbonate, regardless of form or grade. The product is currently classifiable under subheading 2836.60.0000 of the Harmonized Tariff Schedule of the United States (“HTSUS”). Although the HTSUS subheading is provided for convenience and customs purposes, the written description of the scope of this proceeding is dispositive.

Continuation of the Order

As a result of the determinations by the Department and the ITC that revocation of the AD order would likely lead to a continuation or recurrence of dumping and material injury to an industry in the United States, pursuant to section 751(d)(2) of the Act, the Department hereby orders the continuation of the AD order on barium carbonate from the PRC. U.S. Customs and Border Protection will continue to collect AD cash deposits at the rates in effect at the time of entry for all imports of subject merchandise. The effective date of the continuation of the order will be the date of publication in the Federal Register of this notice of continuation. Pursuant to section 751(c)(2) of the Act, the Department intends to initiate the next five-year review of the order not later than 30 days prior to the fifth anniversary of the effective date of continuation.

This five-year (“sunset”) review and this notice are in accordance with section 751(c) of the Act and published pursuant to section 777(i)(1) of the Act.

Dated: February 9, 2015.
Paul Piquado,
Assistant Secretary for Enforcement and Compliance.

[FR Doc. 2015-03197 Filed 2-13-15; 8:45 am]

BILLING CODE 3510-DS-P